DEPARTMENT OF ENERGY

Federal Energy Regulatory Commission

[Project No. 4718-011

Cocheco Falls Associates; Notice of Meeting

February 25, 2000.

Staff from the Federal Energy Regulatory Commission (Commission) will hold a meeting on March 9, 2000, to entertain resolution of issues discussed in the Commission staffs Draft Environmental Assessment (DEA) for the Cocheco Falls Project (FERC No. 4718), issued on December 16, 1999. The project is located on the Cocheco River in Dover, New Hampshire.

The meeting will be held at 1:00 p.m. at the New Hampshire Fish and Game Department, Region 3, 225 Main Street, Durham, NH 03824. Any questions concerning the meeting should be directed to Robert Grieve at (202) 219-2655 or by electronic mail at robert.grieve@ferc.fed.us.

David P. Boergers,
Secretary.

[FR Doc. 00-4992 Filed 3-1-00; 8:45 am]

BILLING CODE 6717-01-M